COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before October 26, 2018.

ADDRESSES: Comments regarding the burden estimate or any other aspect of the information collection, including suggestions for reducing the burden, may be submitted directly to the Office of Information and Regulatory Affairs (OIRA) in OMB within 30 days of this notice's publication by either of the following methods. Please identify the comments by “OMB Control No. 3038-0076.”

• By email addressed to: OIRAsubmissions@omb.eop.gov or

• By mail addressed to: the Office of Information and Regulatory Affairs, Office of Management and Budget, Attention Desk Officer for the Commodity Futures Trading Commission, 725 17th Street NW, Washington DC 20503.

A copy of all comments submitted to OIRA should be sent to the Commodity Futures Trading Commission (the “Commission”) by either of the following methods. The copies should refer to “OMB Control No. 3038-0076.”

• By mail addressed to: Christopher Kirkpatrick, Secretary of the Commission, Commodity Futures Trading Commission, Three Lafayette Centre, 1155 21st Street NW, Washington, DC 20581;

• By Hand Delivery/Courier to the same address; or

• Through the Commission's website at https://comments.cftc.gov. Please follow the instructions for submitting comments through the website.

A copy of the supporting statement for the collection of information discussed herein may be obtained by visiting https://RegInfo.gov.

All comments must be submitted in English, or if not, accompanied by an English translation. Comments will be posted as received to https://www.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Eileen Chotiner, Senior Compliance Analyst, Division of Clearing and Risk, Commodity Futures Trading Commission, (202) 418-5467; email: echotiner@cftc.gov.

SUPPLEMENTARY INFORMATION:

Title: Part 39, Risk Management Requirements for Derivatives Clearing Organizations, (OMB Control No. 3038-0076). This is a request for extension and revision of a currently approved information collection.

Abstract: Commission Regulations 39.12, 39.13, 39.14, 39.15, 39.16 and 39.18 establish risk management requirements for registered derivatives clearing organizations (“DCOs”). Regulation 39.3 requires any person seeking to register as a DCO to submit a completed Form DCO as provided in the appendix to part 39, accompanied by all applicable exhibits. The Commission will use the information in this collection to assess compliance of DCOs and DCO applicants with requirements for DCOs prescribed in the Commodity Exchange Act and Commission regulations.

An agency may not conduct or sponsor, and a person is not required to respond to, a collection of information unless it displays a currently valid OMB control number. On July 13, 2018, the Commission published in the Federal Register notice of the proposed extension of this information collection and provided 60 days for public comment on the proposed extension, 83 FR 32638 (“60-Day Notice”). The Commission did not receive any relevant comments on the 60-Day Notice.

Burden Statement: For this collection, the Commission is revising its burden estimate for 16 registered DCOs and 3 potential DCO applicants, as follows:

1. Collection 3038-0076—Derivatives Clearing Organization Applicants Reporting Requirement (Regulation 39.3 and Form DCO).

Estimated number of respondents per year | Reports annually by each | Total annual responses | Estimated average number of hours per response | Estimated total annual burden hours
3 | 1 | 3 | 400 | 1200

2. Collection 3038-0076—Event-Specific System Safeguards Reporting Requirements for Derivatives Clearing Organizations (Regulations 39.18(g) and (h)).

Estimated number of respondents per year | Reports annually by each | Total annual responses | Estimated average number of hours per response | Estimated total annual burden hours
16 | 2 | 32 | 0.1 | 3.2

3. Collection 3038-0076—Recordkeeping Requirements for Derivatives Clearing Organizations.

Estimated number of respondents per year | Reports annually by each | Total annual responses | Estimated average number of hours per response | Estimated total annual burden hours
16 | 1 | 16 | 50 | 800

Types of Respondents/Affected Entities: Derivatives clearing organizations (DCOs) and applicants for registration as a DCO.

Estimated annual number of respondents: 19.²

² Includes 16 currently registered DCOs (an increase of 2 since the last extension in 2015) and 3 potential applicants.

Estimated average burden hours per response: 9.³

³ Since burden hours vary widely within the collection, this is the average of burden hours per response for the collection as a whole (aggregate of 450.1 hours/aggregate of 51 responses = 8.82 hours, rounded to 9).

Estimated total annual burden hours: 2003.⁴

⁴ This figure reflects the burden hours aggregated from tables 1, 2, and 3 (1200 + 3.2 + 800) = 2003.

Frequency of Collection: On occasion.

There are no capital costs or operating and maintenance costs associated with this collection.

(Authority: 44 U.S.C. 3501 et seq.)

Dated: September, 21, 2018.
Robert Sidman,
Deputy Secretary of the Commission.

[FR Doc. 2018-20948 Filed 9-25-18; 8:45 am]

BILLING CODE 6351-01-P